DEPARTMENT OF HEALTH AND HUMAN SERVICES

Administration for Children and Families

Submission for OMB Review; Comment Request

Title: Parents and Children Together—Discussion Guide.

OMB No.: 0970-0403.

Description: The Office of Planning, Research, and Evaluation (OPRE), Administration for Children and Families (ACF), U.S. Department of Health and Human Services (HHS), is proposing data collection activity as part of the Parents and Children Together (PACT) Evaluation.

The PACT project is a formative evaluation whose overall objective is to document and provide initial assessment of selected Responsible Fatherhood and Healthy Marriage grant programs that were authorized under the 2010 Claims Resolution Act. This information will be critical to informing decisions related to future investments in this kind of programming as well as the design and operation of such services.

To meet the objective of the study, PACT is utilizing three major, interrelated evaluation strategies:

(a) Impact evaluation;

(b) Implementation evaluation; and

(c) Qualitative evaluation.

To collect data for these strategies, four instruments have been approved to-date, and 14 new instruments are proposed through this ICR:

(1) Selecting Study Grantees (discussions with program and partner organization staff)—APPROVED April 20, 2012

(2) Introductory Script (for RE program staff to discuss with program applicants)—APPROVED October 31, 2012

(3) Baseline Survey (for RF study participants)—APPROVED October 31, 2012

(4) Introductory Script (for HM program staff to discuss with program applicants)

(5) Baseline Survey (for HM study participants)

(6) RF study Management Information System (MIS)—APPROVED October 31, 2012

(7) HM study Management Information System (MIS)

(8) Semi-structured interview topic guide (for program staff)

(9) On-line survey (for program staff)

(10) Telephone interview guide (for program staff at referral organizations)

(11) On-line Working Alliance Inventory (for program staff and participants)

(12) Focus group discussion guide (for program participants)

(13) Telephone interview guide (for program dropouts)

(14) In-person, in-depth interview guide (for program participants)

(15) Telephone check-in guide (for program participants)

(16) Semi-structured interview topic guide (for program staff)

(17) Focus group discussion guide (for program participants)

(18) Questionnaire (for program participants in focus groups)

Respondents: Program applicants, program participants, program staff, and staff at referral agencies. Specific respondents per instrument are noted in the burden tables below.

Annual Burden Estimates

New instruments submitted for approval are included in the table below.

Instrument respondent | Annual number of respondents | Number of responses per respondent | Average burden per response (hours) | Total annual burden hours
IMPACT
Healthy Marriage Grantee Impact Evaluation
(4) Introductory script Program staff | 30 | 70.2 | 0.167 | 351
Program applicants | 4,210 | 1 | 0.167 | 702
(5) Baseline survey Study participants | 4,000 | 1 | 0.5 | 2,000
Healthy Marriage Grantee Implementation Evaluation—MIS
(7) HM Study MIS Program staff | 30 | 3,400 | 0.033 | 3,400
Responsible Fatherhood and Healthy Marriage Grantee Implementation Evaluation—Additional Implementation Data Collection Instruments
(8) Semi-structured interview topic guide Program staff | 250 | 2 | 1.03 | 517
(9) On-line survey Program staff | 250 | 2 | 0.5 | 250
(10) Telephone interviews (with staff at referral organizations):
Program staff at referral organizations | 50 | 1 | 0.5 | 25
(11) On-line Working Alliance Inventory:
(1) Program staff | 50 | 20 | 0.167 | 167
(2) Program Participants | 1,000 | 1 | 0.167 | 167
(12) Focus group guide Program participants | 600 | 1 | 1.5 | 900
(13) Telephone interviews Program participants (program dropouts) | 150 | 1 | 0.25 | 38
Responsible Fatherhood Grantee Qualitative Evaluation
(14) Guide for in-person, in-depth interviews Study participants | 32 | 3 | 2 | 192
(15) Check-in call guide Study participants | 32 | 4 | 0.167 | 21
IMPLEMENTATION/QUALITATIVE ONLY
Responsible Fatherhood Grantee Implementation Evaluation—Grantees With a Focus on Hispanic Populations
(16) Semi-structured interview topic guide Program staff | 42 | 1 | 1.5 | 63
(17) Focus group guide Program participants | 20 | 1 | 1.5 | 30
(18) Questionnaires Program participants in focus groups | 20 | 1 | 0.333 | 7
Total |  |  |  | 8,830

Additional Information: Copies of the proposed collection may be obtained by writing to the Administration for Children and Families, Office of Planning, Research, and Evaluation, 370 L'Enfant Promenade SW., Washington, DC 20447, Attn: OPRE Reports Clearance Officer. All requests should be identified by the title of the information collection. Email address: OPREinfocollection@acf.hhs.gov.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Steven M. Hanmer,
Reports Clearance Officer.

[FR Doc. 2013-04307 Filed 2-27-13; 8:45 am]

BILLING CODE 4184-37-M